DEPARTMENT OF COMMERCE

International Trade Administration

[A-357-007]

Carbon Steel Wire Rod From Argentina: Final Results of Antidumping Duty Administrative Review

AGENCY: Import Administration, International Trade Administration, Department of Commerce.

ACTION: Notice of final results of antidumping duty administrative review.

SUMMARY: On November 19, 1999, the Department of Commerce published the preliminary results of the administrative review of the antidumping duty order on carbon steel wire rod from Argentina (64 FR 63283). We preliminarily determined that sales of the subject merchandise were made below normal value. This review covers one manufacturer/exporter of the subject merchandise to the United States, Acindar Industria Argentina de Aceros S.A. (“Acindar”) and the period November 1, 1997 through October 31, 1998.

We gave interested parties an opportunity to comment on the preliminary results. No comments were received. We have made no changes for the final results. We have determined that Acindar has made sales below normal value during the period of review. Accordingly, we will instruct the U.S. Customs Service to assess antidumping duties on entries subject to this review.

EFFECTIVE DATE: February 1, 2000.

FOR FURTHER INFORMATION CONTACT: Helen M. Kramer or Linda Ludwig, Import Administration, International Trade Administration, U.S. Department of Commerce, 14th Street and Constitution Avenue, N.W., Washington, D.C. 20230; telephone (202) 482-0405 or 482-3833, respectively.

Applicable Statute and Regulations

Unless otherwise indicated, all citations to the Trade and Tariff Act of 1930, as amended (the Act) are references to the provisions effective January 1, 1995, the effective date of the amendments made to the Act by the Uruguay Round Agreements Act of 1994 (URAA). In addition, unless otherwise indicated, all references to the Department's regulations are to 19 CFR Part 351 (1999).

SUPPLEMENTARY INFORMATION:

Background

The Department published the preliminary results of this review on November 19, 1999 (64 FR 63283). We received no comments from interested parties. The Department has now completed this review in accordance with section 751(a) of the Act. We made no changes in the calculation methodology from the preliminary results.

Scope of the Review

The product covered by this review is carbon steel wire rod. This merchandise is currently classifiable under HTS item numbers 7213.20.00, 7212.31.30, 72113.39.00, 721113.41.30, 7213.49.00, and 7213.50.00. These HTS subheadings are provided for convenience and U.S. Customs purposes. The written description of the scope of the proceeding is dispositive.

Final Results of Review

As a result of this review, we have determined that the following margin exists for the period November 1, 1997 through October 31, 1998:

Manufacturer/exporter | Margin (percent)
Acindar Industria Argentina de Aceros S.A | 2.63

The Department shall determine, and the U.S. Customs Service shall assess, antidumping duties on all appropriate entries. For assessment purposes, the duty assessment rate will be a specific amount per metric ton. The Department will issue appropriate appraisement instructions directly to the Customs Service. Further, the following deposit requirements shall be effective for all shipments of the subject merchandise from Argentina that are entered, or withdrawn from warehouse, for consumption on or after the publication date of the final results of this administrative review, as provided for by section 751(a)(1) of the Act: (1) The cash deposit rate for Acindar will be the rate established above in the “Final Results of Review” section; (2) for previously investigated companies not listed above, the cash deposit rate will continue to be the company-specific rate published for the most recent period; (3) if the exporter is not a firm covered in this review, or the original investigation, but the manufacturer is, the cash deposit rate will be the rate established for the most recent period for the manufacturer of the merchandise; and (4) the cash deposit rate for all other manufacturers or exporters of this merchandise will continue to be 119.11 percent, the “All Others” rate made effective by the LTFV determination. These requirements, when imposed, shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice serves as the only reminder to parties subject to administrative protective order (APO) of their responsibility concerning the disposition of proprietary information disclosed under APO in accordance with 19 CFR 351.306 of the Department's regulations. Timely written notification of return/destruction of APO materials or conversion to judicial protective order is hereby requested. Failure to comply with the regulation and the terms of an APO is a sanctionable violation.

This administrative review and notice are in accordance with sections 751(a)(1) and 777(i)(1) of the Act and 19 CFR 351.221.

Dated: January 19, 2000.
Robert S. LaRussa,
Assistant Secretary for Import Administration.

[FR Doc. 00-2125 Filed 1-31-00; 8:45 am]

BILLING CODE 3510-DS-P